DEPARTMENT OF HEALTH AND HUMAN SERVICES

National Institutes of Health

Notice of Vitamin D Standardization Program

SUMMARY: The Office of Dietary Supplements (ODS) of the National Institutes of Health (NIH) is collaborating with the Centers for Disease Control and Prevention (CDC), the National Institute of Standards and Technology (NIST) and with national health surveys around the world to lead an international effort to study the differences and similarities in serum 25-hydroxyvitamin D [25(OH)D] distributions around the world. A key first step in that process is the standardization of the measurement results of serum 25(OH)D from the different health surveys to a higher-order method developed by NIST.

This program includes but is not limited to the creation of serum materials with values assigned by a reference method that can be used for calibration and trueness control by laboratories measuring 25(OH)D. These materials will be made available through the newly created CDC Vitamin D Standardization Coordinating Center (VDSCC). While the main focus of the Vitamin D Standardization Program is on standardizing measurements done in national health surveys, it also allows for participation of clinical, public health, research and commercial laboratories and commercial trade organizations in the standardization effort.

FOR FURTHER INFORMATION CONTACT: Ms. Cindy Rooney, Office of Dietary Supplements, National Institutes of Health, 6100 Executive Boulevard, Room 2B03, Bethesda, MD 20892-7523, Phone: 301-496-1508; Fax: 301-402-0420; E-mail: rooneyc@mail.nih.gov.

Dated: February 22, 2011.
Paul M. Coates,
Director, Office of Dietary Supplements, Office of the Director, National Institutes of Health.

[FR Doc. 2011-4603 Filed 3-1-11; 8:45 am]

BILLING CODE 4140-01-P